DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Application for Investment Assistance.

OMB Control Number: 0610-0094.

Form Number(s): ED-900.

Type of Request: Regular submission.

Burden Hours: 18,953.

Number of Respondents: 875

Average Hours Per Response: 22.

Needs and Uses: The Economic Development Administration's (EDA) mission is to lead the federal economic development agenda by promoting innovation and competitiveness, and preparing American regions for growth and success in the worldwide economy. This information collection is necessary to determine the applicant's eligibility for investment assistance under EDA's authorizing statute, the Public Works and Economic Development Act of 1965, as amended (42 U.S.C. 3121 et seq.), and regulations (13 CFR Chapter III).

The collected information also determines the quality of the proposed scope of work to address the pressing economic distress of the region in which the proposed project will be located, the merits of the activities for which the investment assistance is requested, and the ability of the eligible applicant to carry out the proposed activities successfully.

Affected Public: Individuals or households; business or other for-profit organizations; not-for-profit institutions; State, local, or tribal government.

Frequency: On occasion.

Respondent's Obligation: Required to obtain or retain benefits.

OMB Desk Officer: Sharon Mar, (202) 395-6466.

Copies of the above information collection proposal can be obtained by calling or writing Diana Hynek, Departmental Paperwork Clearance Officer, (202) 482-0266, Department of Commerce, Room 7845, 14th Street and Constitution Avenue, NW., Washington, DC 20230 (or via the Internet at dHynek@doc.gov).

Written comments and recommendations for the proposed information collection should be sent within 30 days of publication of this notice to Sharon Mar, OMB Desk Officer, FAX number (202) 395-5806 or via the Internet at Sharon_Mar@omb.eop.gov.

Dated: March 2, 2009.
Gwellnar Banks,
Management Analyst, Office of the Chief Information Officer.

[FR Doc. E9-4751 Filed 3-5-09; 8:45 am]

BILLING CODE 3510-34-P